DEPARTMENT OF DEFENSE

Office of the Secretary

[Transmittal No. 22-0S]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 22-0S.

Dated: August 16, 2024.
Patricia L. Toppings,
OSD Federal Register Liaison Officer, Department of Defense.

Transmittal No. 22-0S

REPORT OF ENHANCEMENT OR UPGRADE OF SENSITIVITY OF TECHNOLOGY OR CAPABILITY (SEC. 36(B)(5)(C), AECA)

(i) Purchaser: Taipei Economic and Cultural Representative Office in the United States (TECRO)

(ii) Sec. 36(b)(1), AECA Transmittal No.: 20-77

Date: October 21, 2020

Military Department: Army

Funding Source: National Funds

(iii) Description: On October 21, 2020, Congress was notified by Congressional certification transmittal number 20-77, of the possible sale, under Section 36(b)(1) of the Arms Export Control Act, of eleven (11) High Mobility Artillery Rocket Systems (HIMARS) M142 Launchers; sixty-four (64) Army Tactical Missile Systems (ATACMS) M57 Unitary Missiles; seven (7) M1152Al High Mobility Multipurpose Wheeled Vehicles (HMMWVs); eleven (11) M240B Machine Guns, 7.62MM; and seventeen (17) International Field Artillery Tactical Data Systems (IFATDS). Also included were fifty-four (54) M28A2 Low Cost Reduced Range Practice Rocket Pods (LCRRPR); eleven (11) M2Al machine guns, .50 caliber; twenty-two (22) AN/NRC-92E dual radio systems; seven (7) AN/NRC-92E dual radio ground stations; fifteen (15) AN/VRC-90E single radio systems; eleven (11) M1084A2 cargo Family of Medium Tactical Vehicles (FMTV) Resupply Vehicles (RSV); two (2) M1089A2 cargo wrecker FMTV RSV; eleven (11) M1095 trailer cargo FMTV, 5-ton; support equipment; communications equipment; spare and repair parts; test sets; laptop computers; training and training equipment; publication; systems integration support; technical data; Stockpile Reliability Program (SRP); Quality Assurance and Technical Assistance Teams; U.S. Government and contractor technical, engineering, and logistics support services; and other related elements of logistical and program support. The estimated total cost was $436.1 million. Major Defense Equipment (MDE) constituted $357.5 million of this total.

This transmittal notifies the inclusion of the following MDE items: an additional eighteen (18) High Mobility Artillery Rocket Systems; twenty (20) Army Tactical Missile Systems Pods; eleven (11) M1152A1 High Mobility Multipurpose Wheeled Vehicles integrated with C2 shelter; four (4) M1152A1 HMMWVs integrated with SECM shelter; and one hundred forty-four (144) M31A2 Guided Multiple Launch Rocket System (GMLRS) Unitary High Explosive (HE) Pods with Insensitive Munitions Propulsion System (IMPS). Also included are additional 5-ton M1084A2 cargo Family of Medium Tactical Vehicle (FMTV) Resupply Vehicles (RSV) without winch; 5-ton M1089A2 with winch wreckers; 5-ton M1095 trailers with resupply kits; Intercom Systems to support the HIMARS Launcher; radio/communication mounts; machine gun mounts; battle management system Vehicle Integration Kit; wheel guards; ruggedized laptops; training; training equipment; publications for HIMARS; and munitions, spares, services, and other support equipment. The estimated total value of the additional items is $520 million. The total estimated MDE value will increase by $430 million to $787.5 million, resulting in an estimated total case value of $956.1 million.

(iv) Significance: The proposed sale will improve the recipient's military goals of updating capability while further enhancing interoperability with the United States and other allies. The recipient intends to use these defense articles and services to modernize its armed forces and expand its capability to strengthen its homeland defense and deter regional threats.

(v) Justification: This proposed sale serves U.S. national, economic, and security interests by supporting the recipient's continuing efforts to modernize its armed forces and to maintain a credible defensive capability. The proposed sale will help improve the security of the recipient and assist in maintaining political stability, military balance, and economic progress in the region.

(vi) Sensitivity of Technology:

The M31A2 GMLRS Unitary HE with IMPS is the Army's primary munition for units fielding the M142 HIMARS and M270 Multiple Launcher Rocket System (MLRS) Launchers. The GMLRS Unitary is a solid propellant artillery rocket that uses Global Positioning System/Precise Positioning Service (GPS/PPS)-aided inertial guidance to accurately and quickly deliver a single high-explosive blast fragmentation warhead to targets at ranges from 15-70 kilometers. The rockets are fired from a launch pod container that also serves as the storage and transportation container for the rockets. Each rocket pod holds six (6) total rockets.

The Sensitivity of Technology Statement contained in the original notification applies to remaining items reported here.

The highest level of classification of defense articles, components, and services included in this potential sale is SECRET.

(vii) Date Report Delivered to Congress: December 5, 2022

[FR Doc. 2024-18763 Filed 8-20-24; 8:45 am]

BILLING CODE 6001-FR-P